NATIONAL SCIENCE FOUNDATION

Sunshine Act Meetings

The National Science Board hereby gives notice of the scheduling of a teleconference for the transaction of National Science Board business pursuant to the NSF Act and the Government in the Sunshine Act.

TIME AND DATE: Monday, April 18, 2022, from 1:00 p.m.-2:00 p.m. EDT.

PLACE: This meeting will be held by teleconference through the National Science Foundation, 2415 Eisenhower Avenue, Alexandria, VA 22314.

STATUS: Closed.

MATTERS TO BE CONSIDERED: The agenda is: NSB Chair's Opening Remarks; Action Item—McMurdo Pier Project; Presentation and Discussion; and Vote.

CONTACT PERSON FOR MORE INFORMATION: Point of contact for this meeting is: Chris Blair, cblair@nsf.gov, 703/292-7000. Meeting information and updates may be found at www.nsf.gov/nsb.

Chris Blair,
Executive Assistant to the National Science Board Office.

[FR Doc. 2022-08052 Filed 4-12-22; 11:15 am]

BILLING CODE 7555-01-P